DEPARTMENT OF ENERGY

Federal Energy Regulatory Commission

[Project No. 10942-001]

Skykomish River Hydro Inc.; Notice of Extension of Time to File Comments on the Intent to Prepare Environmental Impact Statement

September 8, 2000.

On July 28, 2000, the Federal Energy Regulatory Commission (Commission) issued a notice of intent to prepare an environmental impact statement on the proposed construction and operation of the Martin Creek Hydroelectric Project No. 10942-001, located on Martin and Kelley Creeks in King County, Washington. The project would be located on about 17 acres of the Mt. Baker-Snoqualmie National Forest.

Take notice that the due date for filing comments has been extended from September 26, 2000 to November 10, 2000. The extension was requested by the United States Department of Agriculture, Forest Service because area wild fires have stretched staff resources to a point that they can not effectively respond in the time period requested.

David P. Boergers,
Secretary.

[FR Doc. 00-23596 Filed 9-13-00; 8:45 am]

BILLING CODE 6717-01-M